DEPARTMENT OF HEALTH AND HUMAN SERVICES

Centers for Disease Control and Prevention

Advisory Committee to the Director (ACD), Centers for Disease Control and Prevention (CDC)—Health Disparities Subcommittee (HDS)

AGENCY: Centers for Disease Control and Prevention (CDC), Department of Health and Human Services (HHS).

ACTION: Notice of meeting.

SUMMARY: In accordance with the Federal Advisory Committee Act, the CDC announces the following meeting for the Advisory Committee to the Director, Centers for Disease Control and Prevention—Health Disparities Subcommittee (ACD, CDC-HDS). This meeting is open to the public, limited only by the 50 audio phone lines. The public is also welcome to listen to the meeting by teleconference. Please dial (866) 918-8397 and enter code 9346283. There are 50 lines available. The public comment period is from 3:15 p.m.-3:20 p.m.

DATES: The meeting will be held on October 9, 2018, 1:30 p.m. to 3:30 p.m., EDT.

ADDRESSES: Teleconference phone (866) 918-8397 and enter code 9346283.

FOR FURTHER INFORMATION CONTACT: Leandris Liburd, Ph.D., M.P.H., M.A., Designated Federal Officer, Health Disparities Subcommittee, Advisory Committee to the Director, CDC, 1600 Clifton Road NE, M/S K-77, Atlanta, Georgia 30329. Telephone (404) 498-6482, Email: ACDirector@cdc.gov.

SUPPLEMENTARY INFORMATION:

Purpose: The Subcommittee will provide counsel to the CDC Director through the ACD on strategic and other health disparities and health equity issues and provide guidance on opportunities for CDC.

Matters to be Considered: The agenda will include discussions on new member orientation. This meeting will provide information to new members regarding their role & duties on this subcommittee. Agenda items are subject to change as priorities dictate.

The Director, Management Analysis and Services Office, has been delegated the authority to sign Federal Register notices pertaining to announcements of meetings and other committee management activities, for both the Centers for Disease Control and Prevention and the Agency for Toxic Substances and Disease Registry.

Dia Taylor,
Acting Chief Operating Officer, Centers for Disease Control and Prevention.

[FR Doc. 2018-16103 Filed 7-26-18; 8:45 am]

BILLING CODE 4163-19-P